DEPARTMENT OF STATE

[Public Notice 6159]

Bureau of Educational and Cultural Affairs (ECA) Request for Grant Proposals (RFGP): Congressionally Mandated—One-Time Grants Program for Academic Programs

Announcement Type: New Grant.

Funding Opportunity Number: ECA/A-08-One-time-Comp. A.

Catalog of Federal Domestic Assistance Number: 00.000.

Key Dates:

Application Deadline: April 24, 2008.

Executive Summary: This competition is one of two competitions that the Bureau of Educational and Cultural Affairs is conducting as directed in the Department of State, Foreign Operations, and Related Programs Appropriations Act, 2008 (Div.J, Pub. L. 100-161) under “Educational and Cultural Exchange Programs” in support of a $10 million competitive one-time grants program. Applications must be submitted by public and private non-profit organizations meeting the provisions described in Internal Revenue Code section 26 U.S.C. 501(c)(3). Total funding for this “one-time grants program” is $10 million. Of this amount, $5 million will be dedicated to this competition for Academic Programs. (A separate RFGP has been announced in the Federal Register for the remaining $5 million dedicated to Professional and Cultural Programs, reference number ECA/PE/C-08 One-time Comp. B.) Please note: The Bureau reserves the right to reallocate funds it has initially allocated to each of these two competitions, based on submissions received under each competition.

Applicants may only submit ONE PROPOSAL (TOTAL) TO ONE of the two competitions referenced above. In addition, applicants under this competition (ECA/A-08-One-time-Comp. A) may only apply to administer one of the listed activities (total). If multiple proposals are received from the same applicant, all submissions will be declared technically ineligible and will be given no further consideration in the review process.

Eligible applicants are strongly encouraged to read both RFGPs thoroughly, prior to developing and submitting proposals, to ensure that proposed activities are appropriate and responsive to the goals, objectives and criteria outlined in each of the solicitations.

As further directed by the Congress, “The program shall be only for the actual exchange of people and should benefit a population that is not being addressed through existing authorized exchanges.”

The Office of Academic Programs of the Bureau of Educational and Cultural Affairs announces a competition for grants to support exchanges and build relationships between America and people of other countries. These projects are designed to engage non-traditional participants and underserved groups, including the economically disadvantaged in the U.S. and overseas. The activities are designed to complement on-going ECA exchange programs, and to focus on exchanges with the developing world, serving audiences who do not have access to other exchange programs. The concepts involve community college students, undergraduates, teachers and junior faculty.

The Bureau is interested in receiving proposals from organizations with a strong interest, thematic expertise, institutional commitment and a successful track-record in conducting international exchanges. We welcome proposals from organizations that have not previously received ECA funding. Organizations that have the expertise, interest and institutional commitment but lack experience of conducting exchanges, or, where relevant, lack overseas infrastructure, may wish to consider developing proposals based on consortia type relationships with more experienced, eligible organizations. Specifically, as stated in Section III.3. below, grants to organizations with less than four years of experience in conducting international exchange programs will be limited to $60,000.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Background: The Department of State, Foreign Operations, and Related Programs Appropriations Act, 2008 (Div. J, Pub. L. 100-161) under “Educational and Cultural Exchange Programs” includes $10 million “for a competitive one-time grants program similar to proposals by both the House and Senate. In developing this competitive grants program, the Department of State is to be guided by criteria outlined in both the House Report 110-197 and Senate Report 110-128, including the directive to consult with the Appropriations Committees, prior to submission of a program plan.”

II. Award Information

Type of Award: Grant Agreement.

Fiscal Year Funds: FY08.

Approximate Total Funding: $5 million.

Approximate Number of Awards: Please refer to the individual entries below for anticipated numbers of awards and funding levels.

Anticipated Award Date: August 1, 2008.

Anticipated Project Completion Date: September 30, 2009.

Additional Information: As stipulated in legislation, this is a competitive one-time-grants program.

The Office of Academic Programs will accept proposals for the following one-time special initiatives. For each of the activities listed below, Bureau emphasis is given to engaging participants from select geographic regions; however, ECA will consider well justified proposals which engage participants from other world regions. Further details on specific program responsibilities are included in the Project Objectives, Goals, and Implementation (POGI) document for each initiative. Interested organizations should read the entire Federal Register announcement for all information prior to preparing proposals. Please refer to the solicitation package for further instructions.

1. Study of the United States Thematic Institutes for Foreign Undergraduate Students.

The U.S. Department of State is dedicated to increasing its engagement with undergraduate students worldwide who demonstrate the potential to become leaders and who represent indigenous, disadvantaged, or underrepresented communities. ECA offers exchange programs for undergraduate students from underserved sectors of society that increase participants' knowledge and understanding of the United States. The Bureau is seeking detailed proposals for three different Study of the U.S. Thematic Institutes for Foreign Undergraduate Student Leaders under the themes of: (1) The Environment; (2) Entrepreneurship and; (3) New Media in Society. For each program, applicants must select one region and demonstrate the expertise to provide participants with a program that provides them with knowledge and experiences they can apply in their region when they return home.

Purpose: The purpose of the Study of the United States Thematic Institutes for Undergraduate Student Leaders is to provide outstanding first, second, and third-year undergraduate students with intensive and collaborative five-week academic programs on current developments in their respective fields of study, as well as broad exposure to U.S. society, and leadership development. Each program will include 20-23 undergraduate students whose major course of study or demonstrated interests are appropriate for the thematic focus of the institute.

Program Design: Each five-week institute should be a specially designed intensive academic program that creatively combines seminars, discussions, readings, debates, local site visits, and educational travel into a coherent whole. The institutes must not simply replicate existing or previous lectures, workshops, or group activities designed for American students.

Within this context, the institutes should provide practical skills development while also improving the participants' leadership skills. The academic program should include group discussions, training and exercises that focus on the essential attributes of leadership, teambuilding, collective problem-solving skills, effective communication, and management skills for diverse organizational settings.

In addition to providing academic study in a specific discipline and practical skills development, these institutes are intended to promote a better understanding of the United States. Participants will gain a deeper understanding of the history and evolution of U.S. society, culture, values and institutions.

During each program, participants will spend approximately five weeks at the host institution for the academic residency component, and approximately one week on an educational study tour, including two to three days in Washington, DC, at the conclusion of the institute.

The educational travel component should directly complement the academic program, and should allow participants to observe varied aspects of American life in cities and other sites of interest in the region around the host institution(s).

The program also should provide opportunities for participants to meet American citizens from a variety of backgrounds, to interact with their American peers, and to speak to appropriate student and civic groups about their experiences and life in their home countries. This should include a community service component, in which the students experience firsthand how not-for-profit organizations and volunteerism play key roles in American civil society.

Undergraduate student participants will be recruited and selected on the basis of academic merit and leadership potential by U.S. Embassy Public Affairs Sections or Fulbright Commissions in the students' home countries. Participants will come from non-elite backgrounds, from both rural and urban sectors, and with little or no prior experience in the U.S. or elsewhere outside their home country. It is anticipated that the selection of participants will reflect each region's geographic, institutional, ethnic, and gender diversity.

Institute Themes

(1) Study of the United States Institute on the Environment should provide participants insight into the history and evolution up to present time on the U.S. environmental movement, from local grassroots activism to federal government policies and regulation. The institute should address current issues in the field including, but not limited to, ecotourism, natural resource management, sustainable development/sustainable agricultural practices, and public-private partnerships for environmental action. Regions of emphasis: Central America and the Caribbean; or, Southeast Asia; or, Sub-Saharan Africa.

(2) Study of the United States Institute on Entrepreneurship should provide participants with an overview of U.S. economic and social development, especially as it relates to entrepreneurship, and current U.S. trends in small/local business development, and youth employment. Topics may include, but are not limited to, the importance of experimentation and innovation in entrepreneurship, strategic business planning, business leadership and decision making, and women and minorities in business and entrepreneurship. Regions of emphasis: Central America and the Caribbean; or, the Middle East.

(3) Study of the United States Institute on New Media in Society should provide participants with an overview of the foundations of the free press in the United States, and the impact of new trends and technologies in journalism on U.S. society. Topics may include, but are not limited to, professional journalism and traditional media, new media and online journalism, and the role of “citizen journalists,” non-profit organizations, and think tanks in the mainstream press. Regions of emphasis: Central America and the Caribbean; or, the Middle East; or, Sub-Saharan Africa.

A total of one to three grants will be awarded to administer Thematic Institutes for Undergraduate Student Leaders. Applicant organizations may submit a proposal to administer one, two, or three institutes working with separate host institutions for each institute through sub-grant agreements. Note that individual institutions may not host more than one undergraduate student leader institute under the Thematic Institutes Program. Participating countries within regions will be determined by ECA, in consultation with Public Affairs Sections at U.S. embassies abroad. Proposals should demonstrate regional expertise. It is anticipated that the total amount of funding for administrative and program costs under the undergraduate student leaders category will be $1,050,000.

Approximate Number of Awards: 1-3.

Floor of Award Range: $350,000.

Ceiling of Award Range: $1,050,000.

Contact: Brendan Walsh WalshBM@state.gov; 202-453-8532.

2. Undergraduate Intensive English Language Study Program: The U.S. Department of State is dedicated to increasing its engagement with undergraduate students worldwide who demonstrate the potential to become student leaders and who represent indigenous, disadvantaged or underrepresented communities. ECA offers exchange programs for undergraduates from underserved sectors of society that increase participants' knowledge and understanding of the United States. This program will enroll foreign undergraduate students in eight-week intensive English language courses at colleges and universities in the United States, and provide them with an introduction to American institutions, society and culture. ECA expects to fund up to ten cohorts of 20 students each for a total of 200 students. Regions of emphasis: the Middle East, Southeast Asia, and Central America.

Purpose: The Undergraduate Intensive English Language Study Program will provide promising, first, second, and third-year undergraduate students from underserved disadvantaged sectors, who would not otherwise qualify for U.S. exchange opportunities based on English language ability, an opportunity to increase their English language skills through a substantive U.S. exchange experience, and thereby make them more competitive to participate in other U.S. government-sponsored exchanges and for later graduate admission to U.S. institutions.

Program Design: The program will consist of up to ten (10) separate programs lasting eight weeks. Each of these programs should provide participants with intensive English language training, including English for Academic Purposes, as well as the development of general reading, writing, speaking and listening skills, and the testing of those skills.

Student participants will be undergraduates and will be recruited and selected by U.S. Embassy Public Affairs Sections or Fulbright Commissions in the students' home countries. Participants will come from non-elite backgrounds, from both rural and urban sectors, and with little or no prior experience in the United States or elsewhere outside their home country. It is anticipated that the selection of participants will reflect each region's geographic, institutional, ethnic, and gender diversity. Most of the students selected will have a basic knowledge of the English language through formal study.

The grant recipient(s) will be expected to identify the participating U.S. colleges and universities that will host students in groups of no more than 20 each. In identifying the participating host institutions, the proposal should make clear why these institutions have been recommended, and how those institutions will specifically meet the purposes as outlined above.

It is anticipated that all program activities will take place between September 2008 and September 2009. At each campus program, it is essential that participants be placed in classes with students of various nationalities who are also attending these intensive English language programs. Students cannot be placed in study programs only with other speakers of their native language. Applicants should therefore design a program that will offer an academic residency component of eight weeks, the central element of which is an intensive English language training course (English for Academic Purposes), together with other instructional elements that will develop the participants' general reading, writing, speaking and listening skills. Provision should also be made for the testing of those skills.

The program also should provide opportunities for participants to meet American citizens from a variety of backgrounds, to interact with their American peers, and to speak to appropriate student and civic groups about their experiences and life in their home countries. This should include a community service component, in which the students experience firsthand how not-for-profit organizations and volunteerism play key roles in American civil society.

A total of one to five grants will be awarded for the administration of up to ten intensive English language study programs. Applicant organizations must propose to administer at minimum two cohorts of 20 students each and may propose to administer up to ten cohorts of 20 students each. Applicant organizations may propose to administer single-region or multi-region student cohorts but should provide a pedagogical rationale. ECA reserves the right to adjust the regional composition of student cohorts according to Bureau or program priorities. Participating countries within regions will be determined by ECA, in consultation with Public Affairs Sections at U.S. embassies abroad. Proposals should demonstrate regional expertise. It is anticipated that the total amount of funding for administrative and program costs will be $2,200,000.

Approximate Number of Awards: 1-5.

Floor of Award Range: $440,000.

Ceiling of Award Range: $2,200,000.

Contact: Victoria Augustine AugustineVR@state.gov; 202-453-8120.

3. Study Project for Secondary School Teachers.

The project will bring teachers to a U.S. university school of education for a semester to develop their teaching skills, increase their subject-matter expertise, learn U.S. methodologies such as student-centered and project-based learning for six to eight weeks in the summer of 2009.

Regions of emphasis: An applicant organization may submit a proposal to administer and implement a program for one or both of the following two groups of participants: (a) 35 teachers of English as a Foreign Language (EFL) or social studies from the Caribbean and Central America, or (b) 35 teachers of math or science from Sub-Saharan Africa.

Purpose: Program goals are (1) to contribute to the improvement of teaching in the participating countries; (2) to provide professional development opportunities in the U.S. for under-served populations, especially women, to enhance their ability to contribute to national development; (3) to provide key professionals and social influencers with a deeper understanding of the U.S. as a basis for sharing their experiences of living in a diverse democratic society with students and teachers in their home communities; and (4) to develop productive and ongoing relationships encouraging mutual understanding between Americans and international teachers.

Program Design: Participants will be younger teaching professionals with five or more years of classroom experience and a TOEFL Paper Based Test score of at least 400 or the equivalent of approximately 97 on the Computer Based Test score. Countries within the regions will be determined by ECA, in consultation with Public Affairs Sections at U.S. embassies abroad. Proposals should demonstrate regional expertise. Applicant organizations will coordinate the recruitment and nomination of candidates in collaboration with the Public Affairs Sections of U.S. Embassies and the Bureau's program office. While in the U.S., participants will attend professional development seminars, workshops, and conferences on education-related and pedagogical topics, and be exposed to U.S. classrooms and schools. U.S. host universities will also provide opportunities for participants to share information about their home countries with U.S. audiences. The Bureau anticipates funding up to two grants for a total not to exceed $700,000.

Approximate Number of Awards: Up to 2.

Approximate Average Award: $350,000.

Ceiling of Award Range: $700,000.

Contact: Mary Ellen Sariti saritime@state.gov; 202-453-8877.

4. Junior Foreign Faculty Enhancement Program: This program, aimed at junior faculty in mathematics and science, will bring a minimum of 12 participants to the U.S. for a 6-8 week comprehensive academic exchange experience. Region of emphasis: Central America and the Caribbean.

Purpose: The purpose of the Faculty Enhancement Program is to provide young faculty who might not otherwise have the chance to come to the U.S. on an exchange program, the opportunity to upgrade their knowledge in their professional/academic fields and to enhance their pedagogical skills, as well as to gain exposure to U.S. society and culture.

Program Design: The faculty participants will come from the fields of mathematics and the natural and physical sciences. Grant applicants may propose a program that would be of broad interest and benefit to faculty from all these fields, or a program tailored to faculty from a specific field in mathematics or the sciences, such as environmental science, chemistry, biology, etc. In either case, the primary goals of the program are to provide junior, university-level instructors the opportunity to develop their knowledge of their specific fields, to become better teachers, to initiate or further academic research, and to promote contacts between their home and host institutions.

Participants will be junior faculty at public and private universities. The U.S. Embassy Public Affairs sections in the participants' home countries will conduct recruitment and selection. Participants in most cases will have a bachelor's degree or its equivalent in the field they teach; in some cases they may have a master's degree or other additional education beyond the bachelor's degree. Participants will likely teach at more than one institution in their home countries, and may hold other professional employment in addition to their teaching responsibilities. Participants will typically have little experience in the United States but will have a good command of the English language. All program activities should be conducted in English.

The program should provide a range of activities including: short-course instruction in pedagogy and subject area issues customized for the participants, auditing undergraduate or graduate courses offered during the summer term of 2009, attendance at academic and professional conferences or workshops, and/or working with a U.S. faculty mentor on individual research projects, and/or on improving their teaching skills.

The program also should provide opportunities for participants to meet American citizens from a variety of backgrounds, to interact with their American peers, and to speak to appropriate student and civic groups about their experiences and life in their home countries. This should include a community service component, in which the students experience firsthand how not-for-profit organizations and volunteerism play key roles in American civil society.

One grant of $300,000 will be awarded to administer this program. Estimated funding available is based on participation of 12 junior faculty in a 12-week U.S. university-based academic program. Applicant organizations proposing programs of less than 12 weeks should accommodate a larger number of participants. Because some countries operate on a different academic calendar, the 6-12 week program may take place during one of two periods: (1) between December 2008 and February 2009, or (2) between June 2009 and August 2009.

Number of Awards: 1.

Award Amount: $300,000.

Contact: Thomas Ingalls ingallstd@state.gov; (202) 453-8632.

5. U.S. Undergraduate Study and U.S. Faculty Development Abroad

The following three programs to support U.S. undergraduate study abroad will reach beyond the traditional participation in such programs to include non-traditional study abroad destinations and underserved populations both in the United States and overseas. Countries within the regions will be determined by ECA, in consultation with Public Affairs Sections at U.S. embassies abroad. Proposals should demonstrate regional expertise.

A. Capacity Building for Undergraduate Study Abroad

Purpose: The project will encourage the development of new undergraduate study abroad programs.

Program Design: Awards will support exploratory visits of U.S. faculty and/or study abroad administrators from accredited U.S. higher education institutions. Programs should focus on increasing the capacity of foreign institutions to host U.S. undergraduate students interested in pursuing quality academic programs in non-traditional study abroad destinations.

Regions of Emphasis: Sub-Saharan Africa, South America, Central America, Southeast Asia. The Bureau anticipates funding approximately three projects at levels not to exceed $75,000 with total Bureau funding not to exceed $225,000.

Approximate Number of Awards: 3.

Approximate Average Award: $75,000.

Ceiling of Award Range: $225,000.

Contact: Amy Forest forestal@state.gov; 202-453-8866.

B. Junior Faculty Development

Purpose: Awards will support efforts of accredited U.S. higher education institutions to develop exchanges for U.S. junior faculty, including faculty teaching foreign languages, to build their international skills, and through substantive travel visits become on-campus resources for students about study abroad programs.

Program Design: Awards will support visits by U.S. junior faculty, especially in foreign language teaching, from accredited U.S. higher education institutions. Programs should focus on increasing the skills and ability of American junior faculty to teach foreign language and subject areas with an international component, to collaborate with foreign faculty and institutions, and upon return to the U.S. to counsel U.S. students about study abroad opportunities. Regions of emphasis: the Middle East and East Asia. The Bureau anticipates funding approximately up to four projects with total Bureau funding not to exceed $240,000.

Approximate Number of Awards: 4.

Approximate Average Award: $60,000.

Ceiling of Award Range: $240,000.

Contact: Amy Forest forestal@state.gov; 202-453-8866.

C. Community College Study Abroad

Purpose: This project aims to encourage greater participation of U.S. undergraduate community college students in study abroad programs.

Program Design: Awards will support the development of projects for U.S. students to study and to participate in practical training and/or service learning projects. Proposals in the fields of public health, agriculture, and tourism/hospitality are encouraged. Proposed student programs should complement participants' U.S. courses of study and contribute to their educational and degree goals. Programs should be designed to address the particular needs of community college students desiring to study abroad with reference both to cost and program duration, to ensure that programs are feasible and attractive to community college students. Regions of emphasis: Central and South America. The Bureau anticipates supporting one project, with Bureau costs not to exceed $350,000.

Approximate Number of Awards: 1.

Approximate Average Award: $350,000.

Ceiling of Award Range: $350,000.

Contact: Coleen Gatehouse gatehousecn@state.gov; 202-453-8887.

III. Eligibility Information

III.1. Eligible applicants: Applications must be submitted by public and private non-profit organizations meeting the provisions described in Internal Revenue Code section 26 U.S.C. 501(c)(3).

Organizations listed in the Department of State, Foreign Operations, and Related Programs Appropriations Act, 2008 (Div. J, PUB. L. 100-161) under “Educational and Cultural Exchange Programs—a competitive one-time grants program” are encouraged to apply.

III.2. Cost Sharing or Matching Funds: There is no minimum or maximum percentage required for this competition. However, the Bureau encourages applicants to provide maximum levels of cost sharing and funding in support of its programs.

When cost sharing is offered, it is understood and agreed to that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: (a) Grants awarded to eligible organizations with less than four years of experience in conducting international exchange programs will be limited to $60,000.

As directed by the Congress, “The program shall be only for the actual exchange of people and should benefit a population that is not being addressed through existing authorized exchanges.”

(b) Technical Eligibility: All proposals must comply with the following:

—Eligible applicants may only submit ONE proposal (TOTAL) for ONE of the two competitions referenced in the Executive Summary Section of this document. In addition, applicants under this competition (ECA/A-08-One-time-Comp. A) may only apply to administer one of the listed activities (total). If multiple proposals are received from the same applicant, all submissions will be declared technically ineligible and will be given no further consideration in the review process.

—Proposals requesting funding for infrastructure development activities, sometimes referred to as “bricks and mortar support” are not eligible for consideration under this competition and will be declared technically ineligible and will receive no further consideration in the review process.

—The Bureau does not support proposals limited to conferences or seminars (i.e., one- to fourteen-day programs with plenary sessions, main speakers, panels, and a passive audience). It will support conferences only when they are a small part of a larger project in duration that is receiving Bureau funding from this competition.

—No funding is available exclusively to send U.S. citizens to conferences or conference type seminars overseas; nor is funding available for bringing foreign nationals to conferences or to routine professional association meetings in the United States.

—Please refer to the Proposal Submission Instruction (PSI) document for additional requirements.

IV. Application and Submission Information:

Note: Please read the complete announcement before sending inquiries or submitting proposals. Once the RFGP deadline has passed, Bureau staff may not discuss this competition with applicants until the proposal review process has been completed.

IV.1. Contact Information: Please refer to the contact information following each initiative description in this RFGP, and refer to Funding Opportunity Number ECA/A-08-One-time-Comp. A when making your request. Alternatively, an electronic application package may be obtained from grants.gov. Please see section IV.3f for further information.

The Solicitation Package contains the Proposal Submission Instruction (PSI) document which consists of required application forms, and standard guidelines for proposal preparation. The package also contains the Project Objectives, Goals and Implementation (POGI) document, which provides specific information, award criteria, and budget instructions tailored to this competition.

IV.2. To Download a Solicitation Package Via Internet: The entire Solicitation Package may be downloaded from the Bureau's Web site at http://exchanges.state.gov/education/rfgps/menu.htm, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the Solicitation Package containing the mandatory Proposal Submission Instructions (PSI) document and POGI guidelines for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to all Regulations Governing the J Visa: The Bureau of Educational and Cultural Affairs places critically important emphases on the security and proper administration of the Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements.

Please refer to the POGI guidelines for further information on issuance of DS-2019 forms to participants in these programs.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, Fax: (202) 453-8640.

Please refer to Solicitation Package for further information.

IV.3d.2. Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3d.4. Describe your plans for: i.e. sustainability, overall program management, staffing, coordination with ECA and PAS or any other requirements etc.

IV.3e. The following should be taken into consideration when preparing your budget:

IV.3e.1. Applicants must submit a comprehensive budget for the entire program. There must be a summary budget as well as breakdowns reflecting both administrative and program budgets. Applicants may provide separate sub-budgets for each program component, phase, location, or activity to provide clarification.

IV.3e.2. Please refer to the Solicitation Package for complete budget guidelines and formatting instructions.

IV.3F. Application Deadline and Methods of Submission:

Application Deadline Date: April 24, 2008.

Reference Number: ECA/A-08-One-time-Comp. A.

Methods of Submission: Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1. Submitting Printed Applications: Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 8 copies of the application should be sent to: U.S. Department of State, SA-44, Bureau of Educational and Cultural Affairs, Ref.: ECA/A-08-One-time-Comp. A, Program Management, ECA/EX/PM, Room 534, 301 4th Street, SW., Washington, DC 20547.

IV.3f.2.—Submitting Electronic Applications: Applicants have the option of submitting proposals electronically through Grants.gov (http://www.grants.gov). Complete solicitation packages are available at Grants.gov in the “Find” portion of the system. Please follow the instructions available in the ‘Get Started’ portion of the site (http://www.grants.gov/GetStarted ).

Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your Internet connection. Therefore, we strongly recommend that you not wait until the application deadline to begin the submission process through Grants.gov.

Direct all questions regarding Grants.gov registration and submission to: Grants.gov Customer Support, Contact Center Phone: 800-518-4726, Business Hours: Monday-Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes. IV.3f.3.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the U.S. Embassy Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards resides with the Bureau's Grants Officer.

Review Criteria

Technically eligible applications will be competitively reviewed according to the criteria stated below. These criteria are not rank ordered and all carry equal weight in the proposal evaluation:

1. Quality of the Program Plan and Ability to Achieve Program Objectives: Proposals should exhibit originality, substance, precision, and relevance to the Bureau's mission. Detailed agenda and relevant work plan should demonstrate substantive undertakings and logistical capacity. Objectives should be reasonable, feasible, and flexible. Proposals should clearly demonstrate how the institution will meet the program's objectives and plan.

2. Support of Diversity: Proposals should demonstrate substantive support of the Bureau's policy on diversity. Achievable and relevant features should be cited in both program administration (selection of participants, program venue, and program evaluation) and program content (orientation and wrap-up sessions, program meetings, and resource materials).

3. Evaluation and Follow-Up: Proposals should include a plan to evaluate the activity's success, both as the activities unfold and at the conclusion of the program. A draft survey questionnaire or other technique, plus a description of a methodology used to link outcomes to original project objectives, are strongly recommended. Proposals should also discuss provisions for follow-up with returned grantees as a means of establishing longer-term individual and institutional linkages.

4. Cost-effectiveness/Cost-Sharing: The overhead and administrative components of the proposal, including salaries and honoraria, should be kept as low as possible. All other items should be necessary and appropriate. Proposals should maximize cost-sharing through other private sector support as well as institutional direct funding contributions.

5. Institutional Capacity and Track Record: Proposals should demonstrate an institutional record of successful exchange programs, including responsible fiscal management and full compliance with all reporting requirements for past Bureau grants, as determined by Bureau Grants Staff. The Bureau will consider the past performance of prior recipients and the demonstrated potential of new applicants. Proposed personnel and institutional resources should be fully qualified to achieve the project's goals.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.1b. The following additional requirements apply: For exchanges involving the Palestinian Authority, West Bank, and Gaza.

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Donna Ives at (202) 453-8097 or IvesDA@state.gov for additional information.

VI.2. Administrative and National Policy Requirements:

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://exchanges.state.gov/education/grantsdiv/terms.htm#articleI.

VI.3. Reporting Requirements: The grantee organization must provide ECA with a hard copy original plus one copy of the final program and financial report no more than 90 days after the expiration of the award. Other reporting requirements are outlined in the accompanying POGI.

Grantees will be required to provide reports analyzing their evaluation findings to the Bureau in their program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact the program officer designated at the end of each program description.

All correspondence with the Bureau concerning this RFGP should reference, “Congressionally Mandated—One-time Grants Program—for Academic Programs (ECA/A-08-One-time-Comp. A).

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 19, 2008.
C. Miller Crouch,
Acting Assistant Secretary, Bureau of Educational and Cultural Affairs, Department of State.

[FR Doc. E8-6286 Filed 3-26-08; 8:45 am]

BILLING CODE 4710-05-P